DEPARTMENT OF LABOR

Employment and Training Administration

[NAFTA-4270]

Elmer's Products, Inc., Bainbridge, New York; Amended Certification Regarding Eligibility To Apply for NAFTA-Transitional Adjustment Assistance

In accordance with section 250(A), subchapter D, chapter 2, Title II, of the Trade Act of 1974 (19 U.S.C. 2273) the Department of Labor issued a Certification for NAFTA Transitional Adjustment Assistance on January 9, 2001, applicable to workers of Elmer's Products, Inc., Bainbridge, New York. The notice will be published soon in the Federal Register.

At the request of the State agency, the Department reviewed the certification for workers of the subject firm. The investigation was conducted on behalf of the workers at Elmer's engaged in the production of hardware adhesives at the Johnson Street, Bainbridge, New York location. New findings show that the subject firm also has a facility at 151 County Highway 58, Guilford Road, Bainbridge, New York, that produces a different type of adhesive.

Accordingly, the Department is amending the certification to limit coverage to those workers who are engaged in the production of hardware adhesives at Elmer's Products, Inc., Bainbridge, New York.

The amended notice applicable to NAFTA-4270 is hereby issued as follows:

“All workers of Elmer's Products, Inc., Bainbridge, New York, engaged in employment related to the production of hardware adhesives who became totally or partially separated from employment on or after October 12, 1999 through January 9, 2003 are eligible to apply for NAFTA-TAA under Section 250 of the Trade Act of 1974.”

Signed at Washington D.C. this 31st day of January, 2001.
Linda G. Poole,
Certifying Officer, Division of Trade Adjustment Assistance.

[FR Doc. 01-4123 Filed 2-16-01; 8:45 am]

BILLING CODE 4510-30-M